DEPARTMENT OF AGRICULTURE

Agricultural Marketing Service

[Doc. No. AMS-TM-09-0061; TM-09-08]

Notice of Funds Availability (NOFA) Inviting Applications for the Federal-State Marketing Improvement Program (FSMIP)

AGENCY: Agricultural Marketing Service, USDA.

ACTION: Notice.

SUMMARY: The Agricultural Marketing Service (AMS) announces the availability of approximately $1.3 million in competitive grant funds for fiscal year 2010, subject to final appropriation action by Congress, which would enable States to explore new market opportunities for U.S. food and agricultural products and to encourage research and innovation aimed at improving the efficiency and performance of the U.S. marketing system. Eligible applicants include State departments of agriculture, State agricultural experiment stations, and other appropriate State Agencies. Applicants are encouraged to involve industry groups, academia, community-based organizations, and other stakeholders in developing proposals and conducting projects. In accordance with the Paperwork Reduction Act of 1995, the information collection requirements have been previously approved by OMB under 0581-0240, Federal-State Marketing Improvement Program (FSMIP).

DATES: Proposals will be accepted through February 10, 2010.

ADDRESSES: Submit proposals and other required documents to: FSMIP Staff Officer, Transportation and Marketing Programs, Agricultural Marketing Service (AMS), U.S. Department of Agriculture, 1800 M Street, NW., Room 3002-South Tower, Washington, DC 20036; telephone (202) 694-4002; e-mail janise.zygmont@ams.usda.gov.

FOR FURTHER INFORMATION CONTACT: Janise Zygmont, FSMIP Staff Officer; telephone (202) 694-4002; fax (202) 694-5950; or e-mail janise.zygmont@ams.usda.gov.

SUPPLEMENTARY INFORMATION: FSMIP is authorized under Section 204(b) of the Agricultural Marketing Act of 1946 (7 U.S.C. 1621 et seq.). FSMIP provides matching grants on a competitive basis to enable States to explore new market opportunities for U.S. food and agricultural products and to encourage research and innovation aimed at improving the efficiency and performance of the U.S. marketing system. Eligible applicants include State departments of agriculture, State agricultural experiment stations, and other appropriate State Agencies. Other organizations interested in participating in this program should contact their State Department of Agriculture's Marketing Division. State agencies specifically named under the authorizing legislation should assume the lead role in FSMIP projects, and use cooperative or contractual linkages with other agencies, universities, institutions, and producer, industry or community-based organizations as appropriate. Multi-State projects are encouraged as long as one State assumes the coordinating role, using appropriate cooperative arrangements with the other States involved. Applicants other than State Departments of Agriculture and State agricultural experiment stations may wish to include with their applications an explanation of how they meet the definition of “other appropriate State agency.”

Proposals must be accompanied by completed Standard Forms (SF) 424 and 424A. AMS will not approve the use of FSMIP funds for advertising or, with limited exceptions, for the purchase of equipment. Detailed program guidelines may be obtained from the contact listed above, and are available at the FSMIP Web site: http://www.ams.usda.gov/FSMIP.

Background

FSMIP funds a wide range of applied research projects that address barriers, challenges, and opportunities in marketing, transportation, and distribution of U.S. food and agricultural products domestically and internationally.

Eligible agricultural categories include livestock, livestock products, food and feed crops, fish and shellfish, horticulture, viticulture, apiary, and forest products and processed or manufactured products derived from such commodities. Projects that support biobased products and bioenergy and energy programs, including biofuels and other alternative uses for agricultural and forestry commodities (development of biobased products) should see the USDA energy Web site at: http://www.energymatrix.usda.gov/ for information on how to submit those projects for consideration to the energy programs supported by USDA.

Proposals may deal with barriers, challenges, or opportunities manifesting at any stage of the marketing chain including direct, wholesale, and retail. Proposals may involve small, medium, or large scale agricultural entities but should potentially benefit multiple producers or agribusinesses. Proprietary proposals that benefit one business or individual will not be considered.

Proposals that address issues of importance at the State, regional or national level are appropriate for FSMIP. FSMIP also seeks unique proposals on a smaller scale that may serve as pilot projects or case studies useful as a model for other States. Of particular interest are proposals that reflect a collaborative approach among the States, academia, the farm sector and other appropriate entities and stakeholders. FSMIP's enabling legislation authorizes projects to:

• Determine the best methods for processing, preparing for market, packing, handling, transporting, storing, distributing, and marketing agricultural products.

• Determine the costs of marketing agricultural products in their various forms and through various channels.

• Assist in the development of more efficient marketing methods, practices, and facilities to bring about more efficient and orderly marketing, and reduce the price spread between the producer and the consumer.

• Develop and improve standards of quality, condition, quantity, grade, and packaging in order to encourage uniformity and consistency in commercial practices.

• Eliminate artificial barriers to the free movement of agricultural products in commercial channels.

• Foster new/expanded domestic/foreign markets and new/expanded uses of agricultural products.

• Collect and disseminate marketing information to anticipate and meet consumer requirements, maintain farm income, and balance production and utilization.

All proposals which fall within the FSMIP guidelines will be considered. FSMIP encourages States to submit proposals that address the following objectives:

• Creating wealth in rural communities through the development of local and regional food systems and value-added agriculture.

• Developing direct marketing opportunities for producers, or producer groups.

Paperwork Reduction Act

In accordance with the Paperwork Reduction Act of 1995, the FSMIP information collection requirements were previously approved by the Office of Management and Budget (OMB) and were assigned OMB control number 0581-0240.

AMS is committed to compliance with the Government Paperwork Elimination Act (GPEA), which requires Government agencies in general to provide the public with the option of submitted information or transacting business electronically to the maximum extent possible.

How To Submit Proposals and Applications

Applicants have the option of submitting FSMIP applications electronically through the Federal grants Web site, http://www.grants.gov instead of mailing hard copy documents. Applicants considering the electronic application option are strongly urged to familiarize themselves with the Federal grants Web site well before the application deadline and to begin the application process before the deadline. Additional details about the FSMIP application process for all applicants are available at the FSMIP Web site: http://www.ams.usda.gov/FSMIP.

FSMIP is listed in the “Catalog of Federal Domestic Assistance” under number 10.156 and subject agencies must adhere to Title VI of the Civil Rights Act of 1964, which bars discrimination in all Federally assisted programs.

Authority: 7 U.S.C. 1621-1627.

Dated: December 7, 2009.
Rayne Pegg,
Administrator, Agricultural Marketing Service.

[FR Doc. E9-29462 Filed 12-14-09; 8:45 am]

BILLING CODE 3410-02-P